DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action By Trade Adjustment Assistance for Period August 20, 2003-September 26, 2003
Firm name | Address | Date petition accepted | Product
Acushnet Rubber Co., Inc. dba Precix, Inc | 744 Belleville Avenue, New Bedford, MA 02742 | 09/26/03 | Copier rolls and blades and windshield wiper blades.
Beadles Lumber Company | 900 6th Street, N.E., Moultrie, GA 31776 | 09/08/03 | Southern yellow pine lumber.
Bobs Candies, Inc | 1315 West Oakridge Drive, Albany, GA 31707 | 09/08/03 | Candy canes.
Calhoun Bend Mill, Inc | 3615 Fourth Street, Jonesville, LA 71343 | 09/04/03 | Dry flour-based mixes.
Dan River, Inc | P.O. Box 261, Danville, VA 24543 | 09/11/03 | Fabric for home fashions and automotive industries.
Delta Brands, Inc | 2204 Century Center Blvd., Irving, TX 75062 | 09/04/03 | Steel milling machines.
Eagle Stud Mill, Inc | 1620 Rogers Street, Unit 7, Missoula, MT 599802 | 09/04/03 | Coniferous lumber studs.
Fields & Sons, Inc | P.O. Box 25, Kodiak, AK 99615 | 09/17/03 | Salmon.
Henkel, Inc | 211 East Church Street, Hammond, LA 70401 | 09/04/03 | Electrode ovens.
IndTool, Inc | 412 Bradley Street, Burlington, NC 27215 | 09/05/03 | Gear boxes and parts and other speed changers.
Janssen Engineering, Inc | 6920 Route 7, North Dover, AR 72837 | 09/04/03 | Camshafts and repair parts for tractors and implements.
National Magnetic Group, Inc | 1210 Win Drive, Bethlehem, PA 18017 | 09/03/03 | Soft ferrites and dielective resonators.
Northcutt Woodworks, L. P | 101 South 4th Street, Crockett, TX 75835 | 09/17/03 | Pine moldings.
Polar Ware Company | 2806 North 15th Street, Sheboygan, WI 53082 | 08/29/03 | Stainless steel kitchen ware.
Scott Powr-Ply Company dba Scott Fly Rods and The Scott Fly Rod Company | 2355 Air Park Way, Montrose, CO 81401 | 08/26/03 | Fishing rods.
Silverton Victorian Millworks, Inc. dba The Millworks, Inc | 466 S. Sky Lane, Durango, CO 81303 | 08/26/03 | Wood moldings.
Williamson Corporation | 70 Dominion Drive, Concord, MA 01742 | 09/26/03 | Non-contact infrared temperature sensors for used in process control systems.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.
Dated: September 26, 2003.
Brenda A. Johnson,
Acting Director, Planning and Development Assistance Division.

[FR Doc. 03-24971 Filed 10-1-03; 8:45 am]

BILLING CODE 3510-24-P